DEPARTMENT OF DEFENSE

Department of the Army, U.S. Army Corps of Engineers

DEPARTMENT OF ENERGY

Bonneville Power Administration

DEPARTMENT OF THE INTERIOR

Bureau of Reclamation

[RR01041000, 16XR0680G3, RX.16786921.2000100]

Notice of Intent To Prepare the Columbia River System Operations Environmental Impact Statement

AGENCY: Department of the Army, U.S. Army Corps of Engineers, DoD; Bonneville Power Administration, Energy; Bureau of Reclamation, Interior.

ACTION: Notice of intent to prepare an environmental impact statement.

SUMMARY: In accordance with the National Environmental Policy Act, the U.S. Army Corps of Engineers (Corps), Bureau of Reclamation (Reclamation), and the Bonneville Power Administration (BPA) (Action Agencies) intend to prepare an environmental impact statement (EIS) on the system operation and maintenance of fourteen Federal multiple purpose dams and related facilities located throughout the Columbia River basin. The Action Agencies will use this EIS process to assess and update their approach for long-term system operations and configuration through the analysis of alternatives and evaluation of potential effects to the human and natural environments, including effects to socio-economics and species listed under the Endangered Species Act (ESA). The Action Agencies will serve as joint lead agencies in developing the EIS.

DATES: Written comments for the Action Agencies' consideration are due to the addresses below no later than January 17, 2017. Comments may also be made at public meetings. Information on the public meetings is provided under the SUPPLEMENTARY INFORMATION section of this notice.

ADDRESSES: Written comments, requests to be placed on the project mailing list, and requests for information may be mailed by letter to U.S. Army Corps of Engineers Northwestern Division Attn: CRSO EIS, P.O. Box 2870, Portland, OR 97208-2870; or online at comment@crso.info. All comment letters will be available via the project Web site at www.crso.info. All personally identifiable information (for example, name, address, etc.) voluntarily submitted by the commenter may be publicly accessible. Do not submit confidential business information or otherwise sensitive or protected information.

FOR FURTHER INFORMATION CONTACT: Call the toll-free telephone 1-(800) 290-5033 or email info@crso.info. Additional information can be found at the project Web site: www.crso.info.

SUPPLEMENTARY INFORMATION:

Background

The fourteen Federal multiple purpose dams and related facilities are operated as a coordinated system within the interior Columbia River basin in Idaho, Montana, Oregon, and Washington. A map identifying the locations of these dams can be found on the project Web site at www.crso.info. The Corps was authorized by Congress to construct, operate and maintain twelve of these projects for flood control, power generation, navigation, fish and wildlife, recreation, and municipal and industrial water supply purposes. The Corps' projects that will be addressed in this EIS include Libby, Albeni Falls, Dworshak, Chief Joseph, Lower Granite, Little Goose, Lower Monumental, Ice Harbor, McNary, John Day, The Dalles, and Bonneville. Reclamation was authorized to construct, operate, and maintain two projects for purposes of flood control, power generation, navigation, and irrigation. The Reclamation projects that will be addressed in this EIS include Hungry Horse and Grand Coulee. BPA is responsible for marketing and transmitting the power generated by these dams. Together, these Action Agencies are responsible for managing the system for these various purposes.

In the 1990s, the Action Agencies analyzed the socio-economic and environmental effects of operating the system in the Columbia River System Operation Review (SOR) EIS and issued respective Records of Decision in 1997 that adopted a system operation strategy, which included operations supporting ESA-listed fish while fulfilling all other congressionally-authorized purposes. Since the completion of the SOR EIS, the Action Agencies have operated the system consistent with the analyses in the SOR EIS, while some changes to system operations have been adopted under subsequent ESA consultations and project-specific National Environmental Policy Act documents.

Proposal for New EIS

The proposed Columbia River System Operations EIS will assess and update the approach for long-term system operations and configuration. In addition to evaluating a range of alternatives, the EIS will consider the direct, indirect, and cumulative impacts of these alternatives on affected resources, including geology, soils, water quality and quantity, air quality, fish and wildlife (e.g., ESA-listed species and their designated critical habitat), floodplains, wetlands, climate, cultural resources, tribal resources, social and economic resources, and other resources that are identified during the scoping process. The impacts to the resources will be addressed in light of anticipated climate change impacts, such as warmer water temperatures, diminished snow-pack, and altered flows. The Action Agencies will evaluate a range of alternatives in the EIS, including a no-action alternative (current system operations and configuration). Other alternatives will be developed through the scoping period based on public input and Action Agency expertise, and will likely include an array of alternatives for different system operations and additional structural modifications to existing projects to improve fish passage including breaching one or more dams.

The EIS will also identify measures to avoid, offset or minimize impacts to resources affected by system operations and configuration, where feasible. For instance, non-operational mitigation measures to address impacts to the fish resources, such as habitat actions in the tributaries and estuary, avian predation management actions, and conservation and safety net hatcheries, may be proposed.

Additionally, the Action Agencies will comply with all applicable statutory and regulatory requirements in evaluating the proposed action, such as the ESA, Clean Water Act, Section 106 of the National Historic Preservation Act (NHPA), and Executive Orders, including E.O. 12898 Federal Actions to Address Environmental Justice in Minority Populations and Low-Income Populations.

Request for Comments

The Action Agencies are issuing this notice to: (1) Advise other Federal and state agencies, tribes, and the public of their plan to analyze effects related to system operations and configuration; (2) obtain suggestions and information that may inform the scope of issues and range of alternatives to evaluate in the EIS; and (3) provide notice and request public input on potential effects on historic properties from system operations and configuration in accordance with Section 106 of the NHPA (36 Code of Federal Regulations 800.2(d)(3)).

The Action Agencies are inviting interested parties to provide specific comments no later than January 17, 2017, on issues the agencies should evaluate related to the Columbia River System Operations EIS. All comments and materials received, including names and addresses, will become part of the administrative record and may be released to the public.

Public Meetings

The Action Agencies will hold 15 public scoping meetings during the fall and winter of 2016 to invite the public to comment on the scope of the EIS. The 15 public meetings will be held on:

• Monday, October 24, 2016, 4 p.m. to 7 p.m., Wenatchee Community Center, 504 S. Chelan Ave., Wenatchee, Washington.

• Tuesday, October 25, 2016, 4 p.m. to 7 p.m., The Town of Coulee Dam, City Hall, 300 Lincoln Ave., Coulee Dam, Washington.

• Wednesday, October 26, 2016, 4 p.m. to 7 p.m., Priest River Community Center, 5399 Highway 2, Priest River, Idaho.

• Thursday, October 27, 2016, 4 p.m. to 7 p.m., Kootenai River Inn Casino & Spa, 7169 Plaza St., Bonners Ferry, Idaho.

• Tuesday, November 1, 2016, 4 p.m. to 7 p.m., Red Lion Hotel Kalispell, 20 North Main St., Kalispell, Montana.

• Wednesday, November 2, 2016, 4 p.m. to 7 p.m., City of Libby City Hall, 952 E. Spruce St., Libby, Montana.

• Thursday, November 3, 2016, 4 p.m. to 7 p.m., Hilton Garden Inn Missoula, 3720 N. Reserve St., Missoula, Montana.

• Monday, November 14, 2016, 4 p.m. to 7 p.m., The Historic Davenport Hotel, 10 South Post Street, Spokane, Washington.

• Wednesday, November 16, 2016, 4 p.m. to 7 p.m., Red Lion Hotel Lewiston, Seaport Room, 621 21st St., Lewiston, Idaho.

• Thursday, November 17, 2016, 4 p.m. to 7 p.m., Courtyard Walla Walla, The Blues Room, 550 West Rose St., Walla Walla, Washington.

• Tuesday, November 29, 2016, 4 p.m. to 7 p.m., The Grove Hotel, 245 S. Capitol Blvd., Boise, Idaho.

• Thursday, December 1, 2016, 4 p.m. to 7 p.m., Town Hall, Great Room, 1119 8th Ave., Seattle, Washington.

• Tuesday, December 6, 2016, 4 p.m. to 7 p.m., The Columbia Gorge Discovery Center, River Gallery Room, 5000 Discovery Drive, The Dalles, Oregon.

• Wednesday, December 7, 2016, 4 p.m. to 7 p.m., Oregon Convention Center, 777 NE Martin Luther King Jr. Blvd., Portland, Oregon.

• Thursday, December 8, 2016, 4 p.m. to 7 p.m., The Loft at the Red Building, 20 Basin St., Astoria, Oregon.

• Tuesday, December 13, 2016, 10 a.m. to 11:30 a.m., and 3 p.m. to 4:30 p.m., PST, webinar. For those that cannot participate in person, an online webinar will be provided to interested parties. The webinar will cover the material discussed in the in-person public scoping meetings. Detailed instructions on how to participate in the webinar may be found on the project Web site at www.crso.info. To submit written comments, please follow the instructions in the ADDRESSES section of this notice.

The Action Agencies will consider requests for an extension of time for public comment and additional opportunities for public involvement if requests are received in writing by December 1, 2016. Requests for additional time to comment and opportunities for public involvement should be sent to the address listed in the ADDRESSES section of this notice. Requests should include an explanation of the specific purposes served by the requested extension, and should explain how the extension could benefit the National Environmental Policy Act process and analysis. Announcements for any such further opportunities for public involvement, if appropriate given the court-ordered schedule for this EIS, will be published in the Federal Register and by news releases to the media, newsletter mailings, and posting on the project Web site.

The draft EIS is scheduled to be published by March 2020 for public review and comment, and after it is published, the Action Agencies will hold public comment meetings. The Action Agencies will consider public comments received on the draft EIS and provide responses in the final EIS.

Scott A. Spellmon,
Brigadier General, US Army, Division Commander.
Elliot E. Mainzer,
Administrator, Bonneville Power Administration.
Lorri J. Lee,
Regional Director—Pacific Northwest Region, Bureau of Reclamation.

[FR Doc. 2016-23346 Filed 9-29-16; 8:45 am]

BILLING CODE 4332-90-P